INTERNATIONAL TRADE COMMISSION

Submission for OMB Review; Comment Request

AGENCY: International Trade Commission.

ACTION: Agency proposal for the collection of information submitted to the Office of Management and Budget (OMB) for review; comment request.

SUMMARY: In accordance with the provisions of the Paperwork Reduction Act (44 U.S.C. Chapter 35), the Commission has submitted a proposal for the collection of information to OMB for approval. The proposed information collection is a 3-year extension of the current “generic clearance” (approved by the Office of Management and Budget under control No. 3117-0016) under which the Commission can issue information collections (specifically, producer, importer, purchaser, and foreign producer questionnaires and certain institution notices) for the following types of import injury investigations: antidumping duty, countervailing duty, escape clause, NAFTA safeguard, market disruption, and “interference with programs of the USDA.”

DATES: Written comments and recommendations for the proposed information collection should be submitted to OMB within 30 days of the date this notice appears in the Federal Register. Comments should be sent to David Rostker, OMB Desk Officer, Room 10202, New Executive Office Building, Washington, DC 20503.

FOR FURTHER INFORMATION CONTACT: Copies of the proposed information collection proposal can be obtained from Debra Baker, Office of Investigations, U.S. International Trade Commission (telephone no. 202-205-3180; e-mail Debra.Baker@usitc.gov). General information concerning the Commission may also be obtained by accessing its Internet server (http://www.usitc.gov).

SUPPLEMENTARY INFORMATION: (1) The proposed information collection consists of five basic forms, namely the Sample Producers', Sample Importers', Sample Purchasers', and Sample Foreign Producers' questionnaires (separate forms are provided for questionnaires issued for investigations and five-year reviews) and

Sample Notice of Institution for Five-Year Reviews. The types of items contained within the questionnaires and institution notice are largely determined by statute. Actual questions formulated for use in a specific investigation depend upon such factors as the nature of the industry, the relevant issues, the ability of respondents to supply the data, and the availability of data from secondary sources.

(2) The information collected through questionnaires issued under the generic clearance for import injury investigations are consolidated by Commission staff and form much of the statistical base for the Commission's determinations. Affirmative Commission determinations in antidumping and countervailing duty investigations result in the imposition of additional duties on imports entering the United States. If the Commission makes an affirmative determination in a five-year review, the existing antidumping or countervailing duty order will remain in place. The data developed in escape-clause, market disruption, and interference-with-USDA-program investigations (if the Commission finds affirmatively) are used by the President/U.S. Trade Representative to determine the type of relief, if any, to be provided to domestic industries. The submissions made to the Commission in response to the notices of institution of five-year reviews form the basis for the Commission's determination of whether a full or expedited review should be conducted.

(3) Likely respondents consist of businesses (including foreign businesses) or farms that produce, import, or purchase products under investigation. Estimated total annual reporting burden for the period July 2005-June 2008 that will result from the collections of information is presented below.

Table 1.—Projected Annual Burden Data, by Type of Information Collection, July 2005-June 2008
Item | Producer question-naires | Importer questionnaires | Purchaser question-naires | Foreign producer questionnaires | Institution notices for 5-year reviews | Total
| Estimated burden hours imposed annually for July 2005-June 2008
Number of respondents | 952 | 1,370 | 1,070 | 814 | 61 | 4,267
Frequency of response | 1 | 1 | 1 | 1 | 1 | 1
Total annual responses | 952 | 1,370 | 1,070 | 814 | 61 | 4,267
Hours per response | 52.7 | 38.5 | 26.3 | 50.6 | 14.8 | 40.6
Total hours | 50,170 | 52,745 | 28,141 | 41,188 | 904 | 173,148

(4) Responses to the questionnaires are mandatory. No record-keeping burden is known to result from the proposed collections of information.

Issued: April 12, 2005.
By order of the Commission.
Marilyn R. Abbott,
Secretary to the Commission.

[FR Doc. 05-7599 Filed 4-14-05; 8:45 am]

BILLING CODE 7020-02-P